DEPARTMENT OF THE TREASURY

Customs Service

19 CFR Part 101

Consolidation of the Ports of Milwaukee and Racine

AGENCY: U. S. Customs Service, Department of the Treasury.

ACTION: Notice of proposed rulemaking.

SUMMARY: This document proposes amending the Customs Regulations pertaining to the field organization of the Customs Service by consolidating the ports of Milwaukee, Wisconsin, and Racine, Wisconsin and also expanding the area of coverage in southeast Wisconsin. This change is being proposed as part of Customs continuing program to obtain more efficient use of its personnel, facilities, and resources, and to provide better services to carriers, importers and the general public.

DATES: Comments must be received on or before May 30, 2000.

ADDRESSES: Written comments may be submitted to and inspected at the Regulations Branch, Office of Regulations and Rulings, U. S. Customs Service, 1300 Pennsylvania Avenue NW., Third Floor, Washington, D.C.

FOR FURTHER INFORMATION CONTACT: Betsy Passuth, Office of Field Operations, 202-927-0795.

SUPPLEMENTARY INFORMATION:

Background

As part of a continuing program to obtain more efficient use of its personnel, facilities, and resources, and to provide better service to carriers, importers, and the general public, Customs proposes to amend § 101.3 of the Customs Regulations (19 CFR 101.3) by consolidating the ports of Milwaukee, Wisconsin, and Racine, Wisconsin. Both are currently listed as ports under § 101.3(b), Customs Regulations (19 CFR 101.3(b)). The consolidated port would be renamed the Port of Milwaukee-Racine. Consolidating the two ports will reduce administrative costs, without impairing service to area businesses or to the general public, and will provide a more efficient use of Customs personnel and resources. The proposal, if adopted, will improve service to the public by making better use of staffing resources.

Currently, southeast Wisconsin is served by the Customs ports of Racine and Milwaukee, both operating in limited areas with minimal staffing. Budget restrictions have prevented Customs from allocating additional resources to the area.

Because Racine has only one inspector, services other than the filing of entries and manifests are restricted. If for any reason the inspector at Racine is not available, service is not available and entries must be filed at the Port of Milwaukee. The proposed consolidation of the ports of Racine and Milwaukee, which includes enlarging the overall area of the port to include four counties, would result in providing centralized full-time service to the entire area, not merely service to the former ports of Milwaukee and Racine. Personnel would be available to perform cargo examinations, private aircraft processing, and other services such as the processing of entries and manifests on an as needed basis at the port of Racine and all locations within this proposed consolidation.

Current Port Limits

The current port limits of the Port of Milwaukee are described in T.D. 72-105 (37 FR 7591) as encompassing all the territory within the counties of Milwaukee and Waukesha, Wisconsin.

The current port limits of the Port of Racine are described in T.D. 54884 (24 FR 5366) as the corporate limits of the city of Racine, the corporate limits of the city of Kenosha, and the townships of Mt. Pleasant and Somers, all in the state of Wisconsin.

Proposed Port Limits

The proposed port limits of the Port of Milwaukee-Racine will be the counties of Waukesha, Milwaukee, Racine and Kenosha in the state of Wisconsin.

Comments

Prior to adoption of this proposal, consideration will be given to written comments timely submitted to Customs. Submitted comments will be available for public inspection in accordance with the Freedom of Information Act (5 U.S.C. 552), § 1.4, Treasury Regulations (31 CFR 1.4), and § 103.11(b), Customs Regulations (19 CFR 103.11(b)), on regular business days between the hours of 9:00 a.m. and 4:30 p.m. at the Regulations Branch, Office of Regulations and Rulings, 1300 Pennsylvania Avenue NW., Third Floor, Washington, DC 20229.

Authority

This change is proposed under the authority of 5 U.S.C. 301 and 19 U.S.C. 2, 66, and 1624.

Regulatory Flexibility Act and Executive Order 12866

Customs establishes, expands, and consolidates Customs ports of entry throughout the United States to accommodate the volume of Customs-related activity in various parts of the country. Thus, although this document is being issued with notice for public comment, because it relates to agency management and organization, it is not subject to the notice and public procedure requirements of 5 U.S.C. 553. Accordingly, this document is not subject to the Regulatory Flexibility Act (5 U.S.C. 601 et seq.).

Agency organization matters such as this proposed port extension are exempt from consideration under Executive Order 12866.

Drafting Information

The principal author of this document was Janet L. Johnson, Regulations Branch. However, personnel from other offices participated in its development.

Raymond W. Kelly,
Commissioner of Customs.
Approved: July 7, 1999.
John P. Simpson,
Deputy Assistant Secretary of the Treasury.

[FR Doc. 00-7556 Filed 3-27-00; 8:45 am]

BILLING CODE 4820-02-P